ENVIRONMENTAL PROTECTION AGENCY

[FRL-7648-1]

Connecticut Marine Sanitation Device Standard; Receipt of Petition

Notice is hereby given that a petition has been received from the State of Connecticut requesting a determination of the Regional Administrator, U. S. Environmental Protection Agency, pursuant to section 312(f)(3) of Public Law 92-500 as amended by Public Law 95-217 and Public Law 100-4, that adequate facilities for the safe and sanitary removal and treatment of sewage from all vessels are reasonably available for the area between Wamphassuc Point and Eastern Point, including portions of Fishers Island Sound, Pine Island Bay, Baker Cove, Mumford Cove, West Cove, Mystic Harbor, Mystic River, Quiambog Cove, lower portions of the Poquonnock River and lower portions of Palmer Cove in the State of Connecticut, to qualify as a “No Discharge Area” (NDA). The area covered under this petition extends from Eastern Point, Groton at (41°19′08.94″ N by 72°04′31.09″ W) due south to the boundary between Connecticut and New York at (41°15′54.55″N by 72°04′31.09″ W), then northeasterly following the boundary between Connecticut and New York to (41°17′26.34″ N × 72°01′10.94″ W) then continuing northeasterly following the boundary between Connecticut and New York to (41°18′37.84″ N × 71°55′47.63″ W) then south east following the boundary between Connecticut and New York to a point due south of Wamphassuc Point at (41°18′28.99″ N by 71°55′15.75″ W), then due north past Noyes shoal to Wamphassuc Point (41°19′40.63″ N by 71°55′15.75″ W).

The State of Connecticut has certified that there are 13 pumpout units at 11 facilities located in Mystic, Noank, and Groton to service vessels within the proposed NDA. A list of the facilities, phone numbers, locations, and hours of operation is appended at the end of this petition. Of the 13 current facilities, nine are fixed shore-based facilities, two are mobile carts, one is a mobile trailer mounted unit, and one is a mobile pumpout boat. Two facilities provide portable toilet holding tank dump stations. The majority of pumpout facilities discharge to town sewage systems, the carts and one other facility discharge into storage tanks which a licenced sepage hauler services. In addition, the majority of marinas provide public restrooms for boaters and other clientele.

The State of Connecticut used three different methods to estimate vessel population in the proposed NDA, and used the highest estimate of 3700 in their calculations to determine the number of pumpout facilities needed to adequately serve the boating public. The transient vessel population is estimated to be 200 at any point in time during the boating season, which is included in the total figure. Of the estimated total of 3700 vessels using this area at any given time, approximately 1300 are of a size that may have sewage holding tanks and need pumpout services. The State has determined that the 13 pumpout facilities currently in service in the proposed NDA are sufficient to meet the potential demand and prevent the discharge of vessel sewage into coastal waters.

The coastline and coastal waters within the proposed NDA contain a variety of rich natural habitats and support a wide diversity of species, providing a range of recreational and commercial activities. There are 25 public beaches, 11 public boat ramps, and 4 parks or wildlife management areas within the proposed NDA. Both recreational and commercial shell fishermen use the area for the harvest of hard clams, some oysters, and soft shell clams. In addition, fishing is commonplace and the species found in the area are smelt, small cod, flounder, scup, menhaden, and white perch.

Comments and reviews regarding this request for action may be filed on or before June 1, 2004. Such communications, or requests for information or a copy of the applicant's petition, should be addressed to Ann Rodney, U. S. Environmental Protection Agency—New England Region, One Congress Street, Suite 1100, CWQ, Boston, MA 02114-2023. Telephone: (617) 918-1538.

Dated: April 6, 2004.
Robert W. Varney,
Regional Administrator, Region 1.

Name | Location | Contact info. | Hours of operation | Mean low water depth | Fee
Shennecossett Yacht Club | Pine Island Bay | VHF CH 68, 860-445-7892 | June-Sept., 9 a.m.-6 p.m. | 7 feet | Members Free $5 for non-members.
Pine Island Marina | Pine Island | VHF CH 68, 860-445-9729 | Apr.-Nov., 9 a.m.-5 p.m. | 8 feet | Free (portable cart).
Spicer's Noank Marina | Mystic Harbor West Cove | VHF CH 68, 860-536-4978 | Apr.-Nov., 9 a.m.-5 p.m. | 6 feet | Free self service portable cart $20 Service by marina staff with portable cart free dump station).
Noank Shipyard | Mystic Harbor | VHF CH 9, 860-536-9651 | Year round, 8 a.m.-4:30 p.m. | 15 feet | $5, free for customers.
Noank Village Boatyard | Mystic River, Noank | VHF CH 68, 860-536-1770 | May-Dec., 8:30 a.m.-5 p.m. | 8 feet | $5 token for self service at stationary $30 mobile service (1 stationary 1 portable).
Mystic Shipyard | Mystic Harbor | VHF CH 9, 68 860-536-6588 | June-Sept., 8 a.m.-5 p.m., May-Oct., M-F 8 a.m.-5 p.m. | 10 feet | Free.
Mystic Seaport Pumpouts | Mystic River | VHF CH 68, 860-572-0711 | July-Aug., 8 a.m.-7 p.m., May, June, Sept., & Oct., 8 a.m.-4 p.m. | 15 feet | Free (2 pumpouts).
Mystic Shipyard East | Mystic River | VHF CH 9, 68 860-536-4882 | May-Oct., 8 a.m.-4 p.m. | 3 feet | $5, free for customers.
Brewer Yacht Yard at Mystic | Mystic River | 860-536-2293 | May-Nov., Sun.-Thur. 8 a.m.-5 p.m., Fri.-Sat. 8 a.m.-8 p.m. | 11 feet | $5, free for customers.
Brower's Cove Marina | Mystic River | 860-536-8864 | Year Round 9 a.m.-5 p.m. | N/A (dump station only) | Free.
Mystic River Marina | Mystic River | VHF CH9, 860-536-3123 | May-Sept., 8 a.m.-5 p.m. | 9 feet | $5.
Groton, Noank, Mystic Pumpout boat | Mystic River | VHF CH 68, 860-460-7336, 860-448-4084 | Memorial Day-Oct., Sat., Sun. & Mon., holidays 10 a.m.-6 p.m. | N/A (boat) | Free.

[FR Doc. 04-8576 Filed 4-14-04; 8:45 am]

BILLING CODE 6560-50-P